FEDERAL HOUSING FINANCE BOARD

12 CFR Parts 900, 940, 950, 955 and 956

[No. 2000-20]

RIN 3069-AA98

Federal Home Loan Bank Acquired Member Assets, Core Mission Activities, Investments and Advances

AGENCY: Federal Housing Finance Board.

ACTION: Proposed rule; extension of public comment period.

SUMMARY: On May 3, 2000, the Federal Housing Finance Board (Finance Board) published a proposed rule in the Federal Register (65 FR 25676 (May 3, 2000)) that would: add a new part 955 to the Finance Board's regulations to authorize the Federal Home Loan Banks (Banks) to hold acquired member assets; amend the Finance Board's recently adopted part 940 to enumerate the types of core mission assets that must be addressed in the Banks' strategic business plans; and make related changes to the Finance Board's regulations governing the Banks' investment and advances authorities.

The Finance Board has received a number of requests for an extension of the June 2, 2000 deadline for written comments on the proposed rule. In order to provide interested parties ample opportunity to participate in the rulemaking process, the Finance Board is extending the comment period for the proposed rule from June 2, 2000 to June 15, 2000.

DATES: The comment period on the proposed rule is extended until June 15, 2000.

ADDRESSES: Comments should be mailed to: Elaine L. Baker, Secretary to the Board, by electronic mail at bakere@fhfb.gov, or by regular mail at the Federal Housing Finance Board, 1777 F Street, NW, Washington, DC 20006. Comments will be available for public inspection at this address.

FOR FURTHER INFORMATION CONTACT: James L. Bothwell, Director and Chief Economist, (202) 408-2821; Scott L. Smith, Deputy Director, (202) 408-2991; Ellen E. Hancock, Senior Financial Analyst, (202) 408-2906; Christina K. Muradian, Senior Financial Analyst, (202) 408-2584, Office of Policy, Research and Analysis; or Eric M. Raudenbush, Senior Attorney-Advisor, (202) 408-2932; Office of General Counsel, Federal Housing Finance Board, 1777 F Street, NW, Washington, DC 20006.

Dated: May 22, 2000.
By the Board of Directors of the Federal Housing Finance Board.
Bruce A. Morrison,
Chairman.

[FR Doc. 00-13254 Filed 5-25-00; 8:45 am]

BILLING CODE 6725-01-P